DEPARTMENT OF THE INTERIOR

National Park Service

[NPS-WASO-NAGPRA-NPS0033144; PPWOCRADN0-PCU00RP14.R50000]

Notice of Inventory Completion: Johnson-Humrickhouse Museum, Coshocton, OH

AGENCY: National Park Service, Interior.

ACTION: Notice.

SUMMARY: The Johnson-Humrickhouse Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Johnson-Humrickhouse Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Johnson-Humrickhouse Museum at the address in this notice by January 18, 2022.

FOR FURTHER INFORMATION CONTACT: Jennifer Bush, Director, Johnson-Humrickhouse Museum, 300 N. Whitewoman Street, Coshocton, OH 43812, telephone (740) 622-8710, email jennbush@jhmuseum.org.

SUPPLEMENTARY INFORMATION: Notice is here given in accordance with the Native American Graves Protection and Repatriation Act (NAGPRA), 25 U.S.C. 3003, of the completion of an inventory of human remains and associated funerary objects under the control of the Johnson-Humrickhouse Museum, Coshocton, OH. The human remains and associated funerary objects were removed from Eshman Farm, Muskingum County, OH.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kent State University Anthropology Department and Johnson-Humrickhouse Museum professional staff in consultation with representatives of the Delaware Nation, Oklahoma; Delaware Tribe of Indians; Seneca Nation of Indians [previously listed as Seneca Nation of New York]; and the Seneca-Caygua Nation [previously listed as Seneca-Cayuga Tribe of Oklahoma]. The Absentee-Shawnee Tribe of Indians of Oklahoma; Eastern Shawnee Tribe of Oklahoma; Shawnee Tribe; and Stockbridge Munsee Community, Wisconsin were invited to consult but did not participate. Hereafter, all Indian Tribes listed in this section are referred to as “The Consulted and Invited Tribes.”

History and Description of the Remains

In 1969, human remains representing, at minimum, one individual were removed from the Eshman Farm site in Muskingum County, OH. The site is upriver from the Muskingum River Bridge at Dresden. It contained a low burial mound located in the side yard near the Eschman House. This low burial mound was excavated by amateur archeologists Glenn Longaberger and Frank Stratman in 1969. The site collection was donated to the Johnson-Humrickhouse Museum in 1974, shortly following the death of Glenn Longaberger. The Museum has no accession record or description of the excavation, only a 1983 article in the Ohio Archaeologist by Jeff Carskadden and Jim Morton. The fragmentary human remains belong to an individual of unknown sex thought to be between 13-20 years old. Based on information in the Carskadden and Morton article, the human remains have been identified as Shawnee. No known individual was identified. The three associated funerary objects are one Micmac stone pipe, one lock plate and cock from a flint lock rifle, and one brass harness bell.

The Eschman Farm site was occupied during the Hopewell Period (200 BCE to 500 CE). Subsequently, it was occupied by the Shawnee Tribe. Longaberger determined the site to be Hopewell based on the mound architecture, the artifacts, and the Hopewell presence in the area. Later, the Shawnee moved into the site and established a village around the mound called Wakatomika (Carskadden and Morton, 1983). The human remains and associated funerary objects listed in this notice comprise a Shawnee burial that was placed into the Hopewell period mound.

Determinations Made by the Johnson-Humrickhouse Museum

Officials of the Johnson-Humrickhouse Museum have determined that:

• Pursuant to 25 U.S.C. 3001(9), the human remains described in this notice represent the physical remains of one individual of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Absentee-Shawnee Tribe of Indians of Oklahoma; Eastern Shawnee Tribe of Oklahoma; and the Shawnee Tribe (hereafter referred to as “The Tribes”).

Additional Requestors and Disposition

Lineal descendants or representatives of any Indian Tribe or Native Hawaiian organization not identified in this notice that wish to request transfer of control of these human remains and associated funerary objects should submit a written request with information in support of the request to Jennifer Bush, Director, Johnson-Humrickhouse Museum, 300 North Whitewoman Street, Coshocton, OH 43812, telephone (740) 622-8710, email jennbush@jhmuseum.org, by January 18, 2022. After that date, if no additional requestors have come forward, transfer of control of the human remains and associated funerary objects to The Tribes may proceed.

The Johnson-Humrickhouse Museum is responsible for notifying The Consulted and Invited Tribes that this notice has been published.

Dated: December 10, 2021.
Melanie O'Brien,
Manager, National NAGPRA Program.

[FR Doc. 2021-27361 Filed 12-16-21; 8:45 am]

BILLING CODE 4312-52-P